DEPARTMENT OF HEALTH AND HUMAN SERVICES

Centers for Disease Control and Prevention

[30Day-13-13JQ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Health Professional Application for Training (HPAT)—New —National Center for HIV/AIDS, Viral Hepatitis, STD, and TB Prevention (NCHHSTP), Centers for Disease Control and Prevention (CDC).

Background and Brief Description

CDC/NCHHSTP is requesting OMB approval to collect data that will be used to monitor and evaluate performance of CDC funded grantees that offer Sexually Transmitted Disease (STD) and Human immunodeficiency virus (HIV) prevention training, training assistance, and capacity building assistance to physicians, nurses, disease intervention specialists, health educators and other public health professionals. Information collection approval is sought for three years.

CDC/NCHHSTP will use the Health Professional Application for Training (HPAT) for this data collection. This instrument was previously approved under OMB clearance #0920-0017 as a Participant Information Form, but was removed from that information collection request upon its most recent revision. The HPAT allows CDC grantees to use a single instrument when partnering with other Health and Human Services (HHS) funded training programs and does not duplicate information collection efforts. The HPAT will serve as the official training application form used for training activities conducted by the CDC-funded STD/HIV Prevention Training Centers' (PTCs) and the HIV Capacity Building Assistance (CBAs) grantees who offer classroom and experiential training, web-based training, clinical consultation, and capacity building assistance to maintain and enhance the capacity of health care professionals to control and prevent STDs and HIV.

The HPAT will also be used to collect information from the training participants regarding their: (1) Occupations, professions, and functional roles; (2) principal employment settings; (3) location of their work settings; and (4) programmatic and population foci of their work. This data collection provides CDC with information to determine whether the training grantees are reaching their target audiences in terms of provider type, the types of organizations in which participants work, the focus of their work and the population groups and geographic areas served; the data collection is also used to triage and assign CBA provider requests.

The 7,400 respondents represent an average of the number of health professionals trained by the CBA and PTC grantees during the years 2010 and 2011. There are no costs to respondents other than their time.

It is estimated that this collection will involve a total of 617 annual burden hours.

Estimated Annualized Burden Hours
Type of respondent | Form name | Number of respondents | Number responses per respondent | Average burden per response (in hours)
Healthcare Professionals | Health Professional Application for Training (HPAT) | 7,400 | 1 | 5/60

LeRoy Richardson,
Chief, Information Collection Review Office, Office of Scientific Integrity, Office of the Associate Director for Science, Office of the Director, Centers for Disease Control and Prevention.

[FR Doc. 2013-21087 Filed 8-28-13; 8:45 am]

BILLING CODE 4163-18-P